ENVIRONMENTAL PROTECTION AGENCY

[ER-FRL-9053-2]

Environmental Impact Statements; Notice of Availability

Responsible Agency: Office of Federal Activities, General Information 202-564-5632 or https://www.epa.gov/nepa.

Weekly receipt of Environmental Impact Statements (EIS)

Filed September 21, 2020 10 a.m. EST Through September 28, 2020 10 a.m. EST

Pursuant to 40 CFR 1506.9.

Notice

Section 309(a) of the Clean Air Act requires that EPA make public its comments on EISs issued by other Federal agencies. EPA's comment letters on EISs are available at: https://cdxnodengn.epa.gov/cdx-enepa-public/action/eis/search.

EIS No. 20200195, Draft, USFS, NM, Integrated Non-Native Invasive Plant Management, Comment Period Ends: 12/01/2020, Contact: Peggy Luensmann 575-434-7200.

EIS No. 20200196, Final, FTA, CA, Final Environmental Impact Statement/Final Environmental Impact Report (Vol 1) for the East San Fernando Valley Transit Corridor Project, Review Period Ends: 11/02/2020, Contact: Ms. Charlene Lee Lorenzo 213-202-3952.

Amended Notice:

EIS No. 20200165, Draft, USFS, ID, Stibnite Gold Project, Comment Period Ends: 10/28/2020, Contact: Brian Harris 208-634-6945. Revision to FR Notice Published 8/21/2020; Extending the Comment Period from 10/13/2020 to 10/28/2020.

EIS No. 20200176, Final, USACE, FL, Lake Okeechobee Watershed Restoration Project, Review Period Ends: 10/28/2020, Contact: Dr. Gretchen Ehlinger 904-232-1682. Revision to FR Notice Published 08/28/2020; Extending the Comment Period from 09/28/2020 to 10/28/2020.

Dated: September 28, 2020.
Cindy S. Barger,
Director, NEPA Compliance Division, Office of Federal Activities.

[FR Doc. 2020-21796 Filed 10-1-20; 8:45 am]

BILLING CODE 6560-50-P